DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluating Cultural Competence in Behavioral Healthcare Education and Training—NEW

SAMHSA's Center for Mental Health Services (CMHS) is soliciting comments concerning its request for approval of a new information collection from graduates of behavioral healthcare education and training programs. The Evaluating Cultural Competence in Behavioral Healthcare Education and Training Interview Guide for Faculty and Administrators (the Faculty/Administrator Interview Guide) and the Evaluating Cultural Competence in Behavioral Healthcare Education and Training Interview Guide for Graduates (the Graduate Interview Guide) will be used by CMHS to investigate faculty's, administrators', and graduates' perceptions of effectiveness of program curricula to prepare them to function as culturally competent behavioral healthcare providers. In achieving these results, this project will aid CMHS's effort to further the development of a more culturally competent workforce; thereby enhancing progress toward understanding and eliminating disparities in mental health services, which will ultimately help to transform the mental health system.

The Interview Guides will be administered via telephone with faculty, administrators, and recent graduates of behavioral healthcare education and training programs. The Interview Guides will be used to describe how and to what degree the curricula taught in behavioral healthcare education and training programs advances cultural competence effectively in the respective disciplines. The Interview Guides will address the following:

a. Respondent's gender, age, ethnicity, primary language, additional languages spoken, current status (faculty member, provider, researcher, government healthcare worker) and whether she/he is working in the field of training;

b. How cultural competence is defined and conceived;

c. How cultural competence training is implemented and provided to students in behavioral healthcare programs;

d. The program's approach to cultural competence and what effect the approach should have on a student's professional development;

e. Specific elements of programs that foster greater cultural awareness and sensitivity among students;

f. Methods of cultural competence training and their importance;

g. Training policies and guidelines related to cultural competence;

h. How cultural competence training is assessed and how the results of assessments are incorporated back into the program;

i. What methods are used to evaluate program success in terms of students' cultural competence training and how success is measured;

j. Indicators used in measuring students' satisfaction with cultural competence training;

k. Respondent's perceptions about effectiveness of instruction or material during graduate training, and what could have made the instruction more effective; and

l. How graduate training prepares students for professional practice.

The Interview Guides will each include approximately 20-24 questions and are expected to take about one hour to administer. The burden for conducting the interview is as follows:

Interview guide | Number of respondents | Responses per respondent | Burden per response (hrs.) | Total burden (hrs.)
Evaluating Cultural Competence in Behavioral Healthcare Education and Training Interview Guide for Faculty and Administrators | 15 | 1 | 1 | 15
Evaluating Cultural Competence in Behavioral Healthcare Education and Training Interview Guide for Graduates | 60 | 1 | 1 | 60
Total | 75 |  |  | 75

Send comments to Summer King, SAMHSA Reports Clearance Officer, Room 7-1044, One Choke Cherry Road, Rockville, MD 20857 AND e-mail her a copy at summer.king@samhsa.hhs.gov. Written comments should be received within 60 days of this notice.

Dated: November 7, 2007.
Elaine Parry,
Acting Director, Office of Program Services.

[FR Doc. E7-22306 Filed 11-14-07; 8:45 am]

BILLING CODE 4162-20-P